DEPARTMENT OF EDUCATION

National Assessment Governing Board

Meetings

AGENCY: National Assessment Governing Board, U.S. Department of Education.

ACTION: Announcement of open and closed virtual meetings.

SUMMARY: This notice sets forth the agenda for a series of National Assessment Governing Board (hereafter referred to as Governing Board) meetings that will be convened in July 2020 and August 2020. This notice provides information to members of the public who may be interested in accessing the meetings or providing written comments related to the work of the Governing Board. Notice of this meeting is required under § 10(a) (2) of the Federal Advisory Committee Act (FACA). The open sections of the virtual meetings can be accessed via registration at the Governing Board's web's site page at www.nagb.gov beginning at 2:00 p.m. E.T. on Monday, July 6, 2020.

DATES: The July and August 2020 meetings will be held on the following dates:

Assessment Development Committee (ADC): Open Meeting, July 13, 3:00-5:30 p.m. Eastern Time (ET).

Reporting and Dissemination (R&D) Committee Meeting: Open Meeting, July 16: 3:15-4:00 p.m. ET.

Committee on Design and Methodology (COSDAM): Closed Meeting: July 17, 2:00-3:30 p.m. ET; Open Meeting, 3:30 p.m. to 4:00 p.m. ET.

ADC and R&D: Open Meeting: July 23: 2:00-3:00 p.m. ET.

Full Board Meeting: Open Meeting: July 30: 2:00-3:30 p.m. Eastern Time (ET); Closed Meeting, 3:45-5:15 p.m.

Full Board Meeting: Open Meeting: July 31, 10:30 a.m. to 2:30 p.m. ET.; Closed Meeting, 2:45-3:25 p.m. ET; Open Meeting, 3:40—4:15 p.m. ET.

Nominations Committee: Closed Meeting: August 5, 3:00-4:00 p.m. ET.

ADDRESSES: Virtual Meetings.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION: Statutory Authority and Function: The Governing Board is established under the National Assessment of Educational Progress Authorization Act, Title III of Public Law 107-279. Information on the Governing Board and its work can be found at www.nagb.gov.

The Governing Board is established to formulate policy for the National Assessment of Educational Progress (NAEP) administered by the National Center for Education Statistics (NCES). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

Written comments related to the work of the Governing Board may be submitted electronically or in hard copy to the attention of the Executive Officer/Designated Federal Official (see contact information noted above).

July Standing Committee Meetings

The Governing Board's standing committees will meet to conduct regularly scheduled work based on agenda items planned for this Quarterly Board Meeting and follow-up items as reported in the Governing Board's committee meeting minutes available at https://www.nagb.gov/governing-board/quarterly-board-meetings.html.

Meeting Agendas

ADC: Open Meeting, July 13, 3:00-5:30 p.m.

The following agenda items will be discussed with one action item:

• Reaping the Rewards of Reading for Understanding: A Briefing from the National Academy of Education

• Milestones for the 2025 NAEP Reading Framework: A Project Update

• Action Item: 2025 NAEP Mathematics Assessment and Item Specifications

• ADC Roles in Strategic Vision 2025: Discussing the Draft Vision

R&D: Open Meeting: July 16: 3:15-4:00 p.m.

The following agenda items will be discussed with one action item:

• Action Item: Release plan for NAEP Grade 12, Reading and Mathematics

• Discuss R&D components in draft Strategic Vision 2025

COSDAM: July 17, 2:00-4:00 p.m.

• Closed Meeting: 2:00 p.m. to 3:30 p.m.

On July 17, 2020, COSDAM will meet in closed session to discuss NAEP 2021 data quality risks. This meeting must be conducted in closed session because the discussion will include secure NAEP items which have not been released to the public. Public disclosure of secure items used in the assessments would significantly impede implementation of the NAEP assessment program if conducted in open session. Such matters are protected by exemption 9(B) of § 552b(c) of Title 5 of the United States Code.

• Open Meeting: 3:30 p.m. to 4:00 p.m.

Discuss COSDAM components in draft Strategic Vision 2025.

ADC and R&D: Open Meeting: July 23: 2:00-3:00 p.m. Joint session to review COVID-related items on contextual questionnaires.

Nominations Committee: Closed Meeting: August 5, 3:00-4:00 p.m. Discuss updates regarding submission of finalists for October 1, 2020 appointments. This session must be closed because the discussions pertain solely to internal personnel rules and practices of an agency and information of a personal nature where disclosure would constitute a clearly unwarranted invasion of personal privacy. As such, the discussion is protected by exemptions 2 and 6 of § 552b(c) of Title 5 of the United States Code.

Governing Board Full Meeting: Open Session: July 30, 2:00 p.m. to 3:30 p.m.; Closed Meeting: 3:45 p.m. to 5:15 p.m.

On Thursday, July 30, 2020, the Governing Board will meet in open session from 2:00 p.m. to 3:30 p.m. The Governing Board Chairman will welcome members and the Governing Board will take action to approve the May 2020 Governing Board meeting minutes and the July 2020 Governing Board meeting agenda. The Governing Board will take action on a nomination for Governing Board Vice Chair for the term beginning October 1, 2020 and ending September 30, 2021. Then the Governing Board will discuss the 2025 Strategic Vision and take action on the Strategic Vision 2025 thereafter.

On Thursday, July 30, 2020, the full Governing Board will convene in closed session from 3:45 p.m. to 5:15 p.m. During this closed session, the Governing Board will discuss independent cost estimates related to the impact of the COVID-19 pandemic on the National Assessment of Educational Progress (NAEP) 2021 operations and subsequent potential impacts on the NAEP budget and assessment schedule as previously announced. The discussions may impact current and future NAEP contracts and budgets and must be kept confidential. Public disclosure of this confidential information would significantly impede implementation of the NAEP assessment program if conducted in open session. Such matters are protected by exemption 9(B) of § 552b(c) of Title 5 of the United States Code.

On Friday, July 31, 2020, the Governing Board will meet in open session from 10:30 a.m. to 4:15 p.m.

From 10:30 a.m. to 12:15 p.m. the Governing Board will engage in discussion on COVID-19 and policy implications for NAEP. The Governing Board will take a break from 12:15 p.m. to 1:00 p.m. and reconvene in open session from 1:00 p.m. to 2:30 p.m. The Governing Board will receive a briefing on the proposed 2025 NAEP Reading Framework and will engage in a discussion of policy guidance led by Governing Board Member Dana Boyd, ADC Chair.

From 2:45-3:25 p.m., the Governing Board will convene in closed session to hear a briefing on the 2019 NAEP Reading and Mathematics Report Card for grade 12. This meeting must be conducted in closed session because the discussion will include secure NAEP data which have not yet been released to the public. Public disclosure of secure results would significantly impede implementation of the NAEP assessment program if conducted in open session. Such matters are protected by exemption 9(B) of § 552b(c) of Title 5 of the United States Code.

The Governing Board will meet in open session from 3:40 p.m. to 3:45 p.m. to take action on a release plan for the 2019 NAEP Reading and Mathematics Report Card for grade 12.

Departing Governing Board members, Rebecca Gagnon, Andrew Ho, Terry Mazany, and Father Joseph O'Keefe whose terms conclude on September 30, 2020 will provide farewell remarks from 3:45 p.m. to 4:15 p.m., following which the July 31, 2020 session of the Governing Board meeting will adjourn.

Access to Records of the Meeting: Pursuant to FACA requirements, the public may also inspect the meeting materials at www.nagb.gov five working days prior to each meeting. The official verbatim transcripts of the public meeting sessions will be available for public inspection no later than 30 calendar days following the meeting.

Reasonable Accommodations: The meeting is accessible to individuals with disabilities. If you will need an auxiliary aid or service to participate in the meeting (e.g., interpreting service, assistive listening device, or materials in an alternate format), notify the contact person listed in this notice no later than ten working days prior to each meeting.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Lesley Muldoon,
Executive Director, National Assessment Governing Board, U. S. Department of Education.

[FR Doc. 2020-14702 Filed 7-7-20; 8:45 am]

BILLING CODE P